DEPARTMENT OF HEALTH AND HUMAN SERVICES

Food and Drug Administration

[FDA 225-99-7000]

Memorandum of Understanding Between the Food and Drug Administration, the Centers for Disease Control and Prevention, the U.S. Department of Agriculture, the U.S. Department of Defense, and the Environmental Protection Agency

AGENCY: Food and Drug Administration, HHS.

ACTION: Notice.

SUMMARY: The Food and Drug Administration (FDA) is providing notice of a memorandum of understanding (MOU) between FDA, the Centers for Disease Control and Prevention, the U.S. Department of Agriculture, the U.S. Department of Defense, and the Environmental Protection Agency. The purpose of the MOU is to establish an interagency coordinating committee on animal production and food health with the goal of improving animal and public health.

DATES: The agreement became effective November 17, 1999.

FOR FURTHER INFORMATION CONTACT: Robert C. Livingston, Center for Veterinary Medicine (HFV-1), Food and Drug Administration, 7500 Standish Pl., Rockville, MD 20855, 301-594-5903.

SUPPLEMENTARY INFORMATION: In accordance with 21 CFR 20.108(c), which states that all written agreements and MOU's between FDA and others shall be published in the Federal Register, the agency is publishing notice of this MOU.

Dated: May 19, 2000.
William K. Hubbard,
Senior Associate Commissioner for Policy, Planning, and Legislation.

The MOU is set forth in its entirety as follows:

BILLING CODE 4160-01-F

[FR Doc. 00-13208 Filed 5-25-00; 8:45 am]

BILLING CODE 4160-01-C